DEPARTMENT OF LABOR

Occupational Safety and Health Administration

[Docket No. OSHA-2017-0004]

Maritime Advisory Committee for Occupational Safety and Health (MACOSH): Notice of Membership and Meeting

AGENCY: Occupational Safety and Health Administration (OSHA), Labor.

ACTION: Notice of MACOSH membership and meeting.

SUMMARY: On December 14, 2018, the Secretary of Labor (the Secretary) announced the renewal of the Maritime Advisory Committee for Occupational Safety and Health (MACOSH). The MACOSH charter will expire after two years on December 14, 2020. On April 11, 2019, the Secretary selected 15 members and a Special Agency Liaison to serve on the Committee. The Committee is a representative balance of the maritime industry representation (e.g., shipyard employment, longshoring, marine terminal, and commercial fishing industries), geographic location, and in the views and interests represented by the members.

FOR FURTHER INFORMATION CONTACT:

For press inquiries: Mr. Frank Meilinger, Director, OSHA Office of Communications, U.S. Department of Labor; telephone (202) 693-1999; email meilinger.francis2@dol.gov.

For general information about MACOSH: Ms. Amy Wangdahl, Director, Office of Maritime and Agriculture, OSHA, U.S. Department of Labor; telephone (202) 693-2066; email: wangdahl.amy@dol.gov.

For copies of this Federal Register Notice: Electronic copies of this Federal Register notice are available at http://www.regulations.gov. This notice, as well as news releases and other relevant information, are also available at OSHA's web page at www.osha.gov.

SUPPLEMENTARY INFORMATION: MACOSH is established and operates in accordance with Section 7(b) of the Occupational Safety and Health Act of 1970 (OSH Act) (29 U.S.C. 656); 29 CFR part 1912; Secretary of Labor's Order 1-2012 (77 FR 3912, Jan. 25, 2012); and Secretary of Labor's Order 4-2018 (83 FR 35680, July 27, 2018). In addition, MACOSH is established and operates in accordance with the provisions of the Federal Advisory Committee Act (FACA), as amended (5 U.S.C. App. 2.), implementing regulations (41 CFR parts 101-6 and 102-3), and chapter 1600 of Department of Labor Manual Series 3 (March 17, 2008).

The Committee will advise OSHA on matters relevant to the safety and health of employees in the maritime industry related to the priorities set by the agency, including: Worker training, education, and assistance; setting and enforcing of standards; and assurance of safe and healthful working conditions for America's working men and women in the maritime industry. The maritime industry includes shipyard employment, longshoring, marine terminal, and other related industries (e.g., commercial fishing and shipbreaking). The Committee will function solely as an advisory body in compliance with the provisions of FACA and OSHA's regulations covering advisory committees (29 CFR part 1912).

I. Background

The maritime industry is a high-risk industry where activities vary from manufacturing-type work in shipyards, to transportation-type work in longshoring, as well as commercial fishing operations. Historically, the maritime industry has experienced a high incidence rate of work-related fatalities, injuries, and illnesses. The Committee provides a collective industry knowledge and expertise, not otherwise available to the Secretary, to assist in addressing the unique hazards found in shipyard and cargo-handling activities. MACOSH will advise and provide insight to the Secretary on a variety of subjects, as well as assist with the development of guidance and outreach materials, updating regulatory requirements, and with other efforts to help focus industry actions.

II. Appointment of Committee Members

OSHA received nominations of highly qualified individuals in response to the agency's request for nominations (83 FR 54147, October 26, 2018). The Secretary selected individuals to serve on the Committee who have broad experience relevant to the issues to be examined by the Committee. The MACOSH membership is as follows:

Government Interests

• Regina Farr, U.S Department of Transportation, Maritime Administration;

• Matthew Layman, United States Coast Guard;

• James Rone, Washington Department of Labor and Industries; and

• Alice Shumate, National Institute for Occupational Safety and Health (NIOSH).

Worker Interests

• Robert Fiore, International Longshoremen's Association;

• Robert Godinez, International Brotherhood of Boilermakers—Iron Shipbuilders;

• Michael Podue, International Longshore and Warehouse Union; and

• James Reid, International Association of Machinists and Aerospace Workers.

Employer Interests

• William Crow, Virginia Ship Repair Association;

• Donald V. Raffo, General Dynamics;

• Jeremy Riddle, BalTerm, LLC—South Locust Point Marine Terminal; and

• David Turner, APM Terminals/Maersk, Inc.

Professional Organization Interests

• Gunter Hoock, National Safety Council;

• Amy Sly Liu, Marine Chemist Association; and

• Lawrence Russell, National Fire Protection Association.

The Special Agency Liaison to MACOSH is: Julia K. Hearthway, Director, Office of Workers' Compensation Programs.

III. Meeting Information

Dates: MACOSH will meet on June 5 and 6, 2019, from 8:30 a.m. until approximately 4 p.m., ET.

Addresses: The Committee and workgroups will meet at the U.S. Department of Labor, Frances Perkins Building, 200 Constitution Avenue NW, Washington, DC 20210. The Committee will meet on June 5, 2019, in Conference Rooms S-4215A-C, and the workgroups on June 6, 2019, in Conference Rooms N-3437A-D. Meeting attendees must use the visitor's entrance located at 3rd & C Streets NW.

Submission of comments and requests to speak: Submit comments and requests to speak at the MACOSH meeting, identified by the docket number for this Federal Register notice (Docket No. OSHA-2017-0004), by one of the following methods:

Electronically: You may submit comments, including attachments, electronically at: http://www.regulations.gov, the Federal eRulemaking Portal. Follow the online instructions for submitting nominations.

Facsimile: If your comments, including attachments, do not exceed 10 pages, you may fax them to the OSHA Docket Office at (202) 693-1648.

Regular mail, express mail, hand delivery, and messenger or courier service: You may submit comments and attachments to the OSHA Docket Office, Docket No. OSHA-2017-0004, Occupational Safety and Health Administration, U.S. Department of Labor, Room N-3653, 200 Constitution Avenue NW, Washington, DC 20210. Deliveries (express mail, hand (courier) delivery, and messenger service) are accepted during the OSHA Docket Office's normal business hours, 10:00 a.m. to 3:00 p.m., ET.

Requests for special accommodations: Submit requests for special accommodations for MACOSH and workgroup meetings by May 20, 2019, to Danielle Watson, Occupational Safety and Health Administration, Directorate of Standards and Guidance, Room N-3609, U.S. Department of Labor, 200 Constitution Avenue NW, Washington, DC 20210; telephone (202) 693-2222; email Watson.danielle@dol.gov.

Instructions: All submissions must include the agency name and the OSHA docket number for this Federal Register notice (Docket No. OSHA-2017-0004). Because of security-related procedures, submissions by regular mail may result in a significant delay in receipt. Please contact the OSHA Docket Office for information about security procedures for making submissions by express mail, hand (courier) delivery, and messenger service.

OSHA will place comments and requests to speak, including personal information, in the public docket, which may be available online. Therefore, OSHA cautions interested parties about submitting personal information such as Social Security Numbers and birthdates.

Docket: To read or download documents in the public docket for this MACOSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Authority and Signature

Loren Sweatt, Acting Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on April 24, 2019.
Loren Sweatt,
Acting Assistant Secretary of Labor for Occupational Safety and Health.

[FR Doc. 2019-08892 Filed 5-1-19; 8:45 am]

BILLING CODE 4510-26-P